SURFACE TRANSPORTATION BOARD

[Docket No. FD 36188]

Wilmington Terminal Railroad, Limited Partnership—Temporary Trackage Rights Exemption—CSX Transportation, Inc.

On May 8, 2019, Wilmington Terminal Railroad, Limited Partnership (WTRY) filed a request under 49 CFR 1180.2(d)(8) for a one-year extension of the temporary overhead trackage rights previously granted in this docket over a line of railroad of CSX Transportation, Inc. (CSXT), between the Port of Wilmington in Wilmington, NC, at CSXT milepost ACB 249.74 and the switch at CSXT milepost ACB 243.96, and between the switch at CSXT milepost ACB 243.96 and the switch at CSXT's Davis Yard in Navassa, NC, at CSXT milepost SE 359.79, a distance of approximately 10.0 miles (the Line).

WTRY was authorized to acquire these trackage rights over the Line by notice of exemption served and published in the Federal Register on May 18, 2018 (83 FR 23,324). The purpose of the trackage rights is to allow WTRY to bridge loaded and empty trains containing containers or trailers in intermodal service in connection with CSXT's “Queen City Express” service. The rights are scheduled to expire on June 3, 2019.

Under 49 CFR 1180.2(d)(8), the parties may, prior to the expiration of the temporary trackage rights, file a request for a renewal of the temporary rights for an additional period of up to one year, including the reasons for the extension. WTRY states that the service has been beneficial to WTRY and CSXT and to the shippers being served, and WTRY and CSXT wish to extend the service for an additional year so that WTRY can continue to handle the intermodal traffic movements likely to be tendered during the upcoming year.

WTRY filed a copy of an executed amendment to the temporary trackage rights agreement with its request for the one-year extension. WTRY also acknowledges that any further extension of these rights, or a conversion to a longer term, would require a separate notice of exemption pursuant to 49 CFR 1180.4(g).

In accordance with 49 CFR 1180.2(d)(8), WTRY's temporary trackage rights over the Line will be extended for one year and will expire on June 3, 2020. The employee protective conditions imposed in the May 18, 2018 notice remain in effect. Notice of the one-year extension will be published in the Federal Register.

It is ordered:

1. WTRY's temporary trackage rights over the Line are extended for one year and will expire on June 3, 2020.

2. Notice will be published in the Federal Register.

3. This decision is effective on its service date.

Decided: May 17, 2019.
By the Board, Scott M. Zimmerman, Acting Director, Office of Proceedings.
Jeffrey Herzig,
Clearance Clerk.

[FR Doc. 2019-10743 Filed 5-22-19; 8:45 am]

BILLING CODE 4915-01-P